DEPARTMENT OF COMMERCE

International Trade Administration

[C-580-837]

Certain Cut-to-Length Carbon Quality Steel Plate from the Republic of Korea: Partial Rescission of Countervailing Duty Administrative Review; 2014

AGENCY: Enforcement and Compliance, International Trade Administration, Department of Commerce.

DATES: Effective Date: July 29, 2015.

FOR FURTHER INFORMATION CONTACT: John Conniff, AD/CVD Operations, Office III, Enforcement and Compliance, International Trade Administration, U.S. Department of Commerce, 14th Street and Constitution Avenue NW., Washington, DC 20230; telephone: (202) 482-1009.

SUPPLEMENTARY INFORMATION:

Background

On February 2, 2015, the Department of Commerce (the Department) published a notice of opportunity to request an administrative review of the countervailing duty order on certain cut-to-length carbon quality steel plate from the Republic of Korea (Korea).¹

¹ See Antidumping or Countervailing Duty Order, Finding, or Suspended Investigation; Opportunity to Request Administrative Review, 80 FR 3059 (February 2, 2015).

Pursuant to requests from Dongkuk Steel Mill Co., Ltd. (DSM),² Hyundai Steel Co. Ltd. (Hyundai Steel),³ and Nucor Corporation (Nucor), the petitioner,⁴ the Department published in the Federal Register the notice of initiation of this countervailing duty administrative review for the period January 1, 2014, through December 31, 2014.⁵ On July 2, 2015, Nucor withdrew its request for 10 companies in the review in a timely manner.⁶

² See DSM's March 2, 2015, letter to the Department.

³ See Hyundai Steel's March 2, 2015, letter to the Department.

⁴ See Nucor's February 27, 2015, letter to the Department.

⁵ See Initiation of Antidumping and Countervailing Duty Administrative Reviews and Request for Revocation in Part, 80 FR 18202 (April 3, 2015) (Initiation).

⁶ See Nucor's July 2, 2015, submission where it withdrew its request for the following companies: BDP International, Daewoo International Corp., GS Global Corp., Hyundai Glovis, Hyundai Steel, Iljin Steel, Samsung C&T Corp., Samsung C&T Engineering & Construction Group, Samsung C&T Trading and Investment Group, Samsung Heavy Industries, and Steel N People Ltd.

Rescission of the 2014 Administrative Review, in Part

Pursuant to 19 CFR 351.213(d)(1), the Secretary will rescind an administrative review, in whole or in part, if the parties that requested a review withdraw the request within 90 days of the date of publication of the notice of initiation of the requested review. The Department published the Initiation on April 3, 2015.⁷ Nucor's withdrawal of its review request was submitted within the 90-day period following the publication of the Initiation and, thus, is timely. Therefore, in accordance with 19 CFR 351.213(d)(1), we are rescinding this review of the countervailing duty order on certain cut-to-length carbon quality steel plate from Korea with respect to the following companies: BDP International, Daewoo International Corp., GS Global Corp., Hyundai Glovis, Iljin Steel, Samsung C&T Corp., Samsung C&T Engineering & Construction Group, Samsung C&T Trading and Investment Group, Samsung Heavy Industries, and Steel N People Ltd. DSM and Hyundai Steel did not withdraw their requests for review and, thus, the reviews of these firms will continue.

⁷ See Initiation.

Assessment

The Department will instruct U.S. Customs and Border Protection (CBP) to assess countervailing duties on all appropriate entries. For the companies for which this review is rescinded countervailing duties shall be assessed at rates equal to the cash deposit of estimated countervailing duties required at the time of entry, or withdrawal from warehouse, for consumption, during the period January 1, 2014, through December 31, 2014, in accordance with 19 CFR 351.212(c)(1)(i).

The Department intends to issue appropriate assessment instructions directly to CBP 15 days after publication of this notice.

Notification Regarding Administrative Protective Order

This notice serves as a final reminder to parties subject to administrative protective orders (APOs) of their responsibility concerning the disposition of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with sections 751(a)(1) and 777(i)(1) of the Tariff Act of 1930, as amended, and 19 CFR 351.213(d)(4).

Dated: July 22, 2015.
Christian Marsh,
Deputy Assistant Secretary for Antidumping and Countervailing Duty Operations.

[FR Doc. 2015-18622 Filed 7-28-15; 8:45 am]

BILLING CODE 3510-DS-P